NATIONAL AERONAUTICS AND SPACE ADMINISTRATION

[Notice (02-030)]

Notice of Prospective Patent License

AGENCY: National Aeronautics and Space Administration.

ACTION: Notice of prospective patent license.

SUMMARY: NASA hereby gives notice that EnviroMetal Technologies Inc. of Waterloo, Ontario, Canada, has applied for an exclusive patent license for the Use of Ultrasound to Improve the Effectiveness of a Permeable Treatment Wall, U.S. Patent No. 6,013,232, which is assigned to the United States of America as represented by the Administrator of the National Aeronautics and Space Administration. Written objections to the prospective grant of a license should be sent to Randall M. Heald, Assistant Chief Counsel/Patent Counsel, and John F. Kennedy Space Center.

DATES: Responses to this Notice must be received by March 22, 2002.

FOR FURTHER INFORMATION CONTACT: Randall M. Heald, Assistant Chief Counsel/Patent Counsel, John F. Kennedy Space Center, Mail Code: CC-A, Kennedy Space Center, FL 32899, telephone (321) 867-7214.

Dated: March 1, 2002.
Robert M. Stephens,
Deputy General Counsel.

[FR Doc. 02-5401 Filed 3-6-02; 8:45 am]

BILLING CODE 7510-01-P